DEPARTMENT OF COMMERCE

International Trade Administration

[A-351-804, A-427-009, A-428-803, A-588-812, A-580-805, A-570-802, A-412-803]

Continuation of Antidumping Duty Orders: Industrial Nitrocellulose From Brazil, France, Germany, Japan, Korea, the People's Republic of China, and the United Kingdom

AGENCY: Import Administration, International Trade Administration, Department of Commerce.

ACTION: Notice of continuation of antidumping duty orders: Industrial nitrocellulose from Brazil, France, Germany, Japan, Korea, the People's Republic of China, and the United Kingdom.

SUMMARY: On October 27, 1999, the Department of Commerce (“the Department”), pursuant to sections 751(c) and 752 of the Tariff Act of 1930, as amended (“the Act”), determined that revocation of the antidumping duty orders on industrial nitrocellulose from Brazil, France, Germany, Japan, Korea, the People's Republic of China (“PRC”), and the United Kingdom (“UK”) is likely to lead to continuation or recurrence of dumping. See 64 FR 57854, 57859, 57843, 57845, 57847, 57857, 57850 (October 27, 1999).

On August 30, 2000, the International Trade Commission (“the Commission”), pursuant to section 751(c) of the Act, determined that revocation of the antidumping duty orders on industrial nitrocellulose from Brazil, France, Germany, Japan, Korea, the PRC, and the UK would be likely to lead to continuation or recurrence of material injury to an industry in the United States within a reasonably foreseeable time. See 65 FR 52786 (August 30, 2000). Therefore, pursuant to 19 CFR 351.218(f)(4), the Department is publishing notice of continuation of the antidumping duty orders on industrial nitrocellulose from Brazil, France, Germany, Japan, Korea, the PRC, and the UK.

EFFECTIVE DATE OF CONTINUATION: September 12, 2000.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On June 1, 1999, the Department initiated, and the Commission instituted, sunset reviews (64 FR 64 FR 29261 and 64 FR 29344 ) of the antidumping duty orders on industrial nitrocellulose from Brazil, France, Germany, Japan, Korea, the PRC, and the UK pursuant to section 751(c) of the Act. See 64 FR 57854, 57859, 57843, 57845, 57847, 57857, 57850 (October 27, 1999). As a result of its reviews, the Department found on October 27, 1999, that revocation of the antidumping duty orders on industrial nitrocellulose from Brazil, France, Germany, Japan, Korea, the PRC, and the UK would likely lead to continuation or recurrence of dumping and notified the Commission of the magnitude of the margins likely to prevail were the orders revoked. See 64 FR 57854, 57859, 57843, 57845, 57847, 57857, 57850 (October 27, 1999).

On August 30, 2000, the Commission determined, pursuant to section 751(c) of the Act, that revocation of the antidumping duty orders on industrial nitrocellulose from Brazil, France, Germany, Japan, Korea, the PRC, and the UK would be likely to lead to continuation or recurrence of material injury to an industry in the United States within a reasonably foreseeable time. See Industrial Nitrocellulose From Brazil, France, Germany, Japan, Korea, China, and the United Kingdom, 65 FR 52786 (August 30, 2000) and USITC Publication 3342, Investigation Nos. 731-TA-96 and 439-445 (Review) (August 2000).

Scope of the Orders

The product covered by these antidumping duty orders is industrial nitrocellulose from Brazil, France, Germany, Japan, Korea, the PRC, and the UK. Industrial nitrocellulose is a dry, white, amorphous synthetic chemical with a nitrogen content between 10.8 and 12.2 percent, and is produced from the reaction of cellulose with nitric acid. Industrial nitrocellulose is used as a film-former in coatings, lacquers, furniture finishes, and printing inks. The scope of these orders does not include explosive grade nitrocellulose which has a nitrogen content greater than 12.2 percent. Industrial nitrocellulose is currently classifiable under Harmonized Tariff Schedule (“HTS”) item number 3912.20.00. The HTS item number is provided for convenience and customs purposes only. The written description remains dispositive.

Determination

As a result of the determination by the Department and the Commission that revocation of the antidumping duty orders would be likely to lead to continuation or recurrence of dumping and material injury to an industry in the United States, pursuant to section 751(d)(2) of the Act and 19 CFR 351.222(i)(1), the Department hereby orders the continuation of the antidumping duty orders on industrial nitrocellulose from Brazil, France, Germany, Japan, Korea, the PRC, and the UK.

The Department will instruct the U.S. Customs Service to continue to collect antidumping duty deposits at the rates in effect at the time of entry for all imports of subject merchandise. The effective date of continuation of these orders will be the date of publication in the Federal Register of this notice. Pursuant to section 751(c)(2) and 751(c)(6) of the Act, the Department intends to initiate the next five-year review of the orders on industrial nitrocellulose from Brazil, France, Germany, Japan, Korea, the PRC, and the UK not later than August 2005.

Dated: September 6, 2000.
Troy H. Cribb,
Acting Assistant Secretary for Import Administration.

[FR Doc. 00-23397 Filed 9-11-00; 8:45 am]

BILLING CODE 3510-DS-P